DEPARTMENT OF JUSTICE

Notice of Lodging of Consent Decree Under The Comprehensive Environmental Response, Compensation and Liability Act

Notice is hereby given that on May 23, 2000, a proposed Consent Decree in United States v. Riverside Plating Company, Inc. et al., Civil Action No. 00-C-0320 was lodged with the United States District court for the Western District of Wisconsin.

This consent decree represents a settlement of claims brought against Riverside Plating Company, Inc. (“Riverside Plating”) and Richard J. Bouziane under Section 107 of CERCLA, 42 U.S.C. 9607, for the recovery of costs incurred by the United States in responding to the release or threatened release of hazardous substances at and from the Riverside Plating Superfund Site in Janesville, Wisconsin. John C. Bouziane, Michael J. Bouziane, Bouziane Enterprises, Bouziane Plating, the Ruth Bouziane Trust, the Bouziane Family Trust and the Estate of Ruth Bouziane are also parties to the consent decree.

Under the proposed settlement, Riverside Plating and Richard Bouziane will, inter alia, pay the United States $50,000 in partial reimbursement of response costs incurred by the United States in connection with the Riverside Plating Superfund Site.

The Department of Justice will receive for a period of thirty (30) days from the date of this publication comments relating to the Consent Decree. Comments should be addressed to the Assistant Attorney General, Environment and Natural Resources Division, P.O. Box 7611, U.S. Department of Justice, Washington, D.C. 20044-7611, and should refer to United States v. Riverside Plating Company, Inc. et al, D.J. Ref. 90-11-2-06129/2.

The Consent Decree may be examined at the Office of the United States Attorney, 660 West Washington Ave., Suite 200, Madison, Wisconsin, and at U.S. EPA Region 5, 77 West Jackson Boulevard, Chicago, Illinois. A copy of the Consent Decree may also be obtained by mail from the Consent Decree Library, P.O. Box 7611, U.S. Department of Justice, Washington, D.C. 20044-7611. In requesting a copy, please enclose a check in the amount of $7.50 (25 cents per page reproduction cost) payable to the Consent Decree Library.

Joel M. Gross,
Chief, Environmental Enforcement Section, Environment and Natural Resources Division.

[FR Doc. 00-14623 Filed 6-8-00; 8:45 am]

BILLING CODE 4410-15-M